DEPARTMENT OF COMMERCE

National Oceanic and Atmospheric Administration

RIN 0648-XD617

Western Pacific Fishery Management Council; Public Meetings

AGENCY: National Marine Fisheries Service (NMFS), National Oceanic and Atmospheric Administration (NOAA), Commerce.

ACTION: Notice of public meeting.

SUMMARY: The Western Pacific Regional Fishery Management Council's (Council) will hold public meetings to solicit public input on the management of bottomfish and yellowfin tuna in the Main Hawaiian Islands.

DATES: The meetings will be held December 2 through December 13, 2014. See SUPPLEMENTARY INFORMATION for specific times, dates, and agenda items.

ADDRESSES: See SUPPLEMENTARY INFORMATION for specific locations of the meetings.

FOR FURTHER INFORMATION CONTACT: Kitty M. Simonds, Executive Director; telephone: (808)-522-8220.

SUPPLEMENTARY INFORMATION: The Lihue, Kauai public meeting will be held on December 2, 2014, from 6 p.m.-9 p.m.; The Kaunakakai, Molokai public meeting will be held on December 3, 2014, from 6 p.m.-9 p.m.; The Aiea, Oahu public meetings will be held on December 4, 2014, from 6 p.m.-9 p.m.; The Paia, Maui public meetings will be held on December 9, 2014, from 6 p.m.-9 p.m.; The Honolulu, Oahu public meetings will be held on December 10, 2014, from 6 p.m.-9 p.m.; The Hilo, Hawaii public meetings will be held on December 12, 2014, from 6 p.m.-9 p.m.; and the Kailua-Kona, Hawaii public meetings will be held on December 13, 2014, from 10 a.m.-1 p.m.

The Lihue, Kauai public meeting will be held at the Chiefess Kamakahelei Middle School Cafeteria, 4431 Nuhou St., Lihue, Kauai, HI 96766; The Kaunakakai, Molokai public meeting will be held at the Kaunakakai Elementary School Cafeteria, 30 Ailoa St., Kaunakakai, Molokai, HI 96748; The Aiea, Oahu public meeting will be held at the Waimalu Elementary School Cafeteria, 98-825 Moanalua Rd., Aiea, HI 96701; The Paia, Maui public meeting will be held at the Paia Community Center, Social Hall, Hana Hwy., Paia, Maui, HI 96799; The Honolulu, Oahu public meeting will be held at Washington Middle School Cafeteria, 1633 S. King St., Honolulu, HI 96826; The Hilo, Hawaii public meeting will be held at the Hilo High School Cafeteria, 556 Waianuenue Ave., Hilo, HI 96720; and the Kailua-Kona, Hawaii public meeting will be held at the Courtyard King Kamehameha's Kona Beach Hotel, 75-5660 Palani Rd., Kailua-Kona, HI 96740.

Agenda for Public Meetings

I. Open House Session

A. Welcome and Sign-in

B. Informational Booths

1. State of Hawaii Bottomfish Reporting Requirements

a. Standardizing and Improving Catch and Effort Reporting

b. Volunteer Non-Commercial Reporting

2. Federal Non-Commercial Bottomfish Permit and Reporting

3. Yellowfin Tuna (Ahi) Science and Minimum Size Considerations

II. Presentation and Discussion Session

A. Yellowfin Tuna Management Issues

1. Report on the Status of Yellowfin Tuna Science

2. Modification to the Minimum Size Limit for the Sale of Yellowfin Tuna

3. Open Discussion

B. Main Hawaiian Islands Deep-7 Bottomfish Management Issues

1. Non-Commercial Bag Limits

2. Creating a Market Grace Period for the Sale of Deep-7 Bottomfish after a Fishery Closure

3. Bottomfish Restricted Fishing Areas (BRFAs)

a. Proposed Changes to the Number of BRFAs

b. Modifications to the State Reporting Grids to Improve Reporting if BRFAs are Removed

4. Open Discussion

C. Summary and Closing

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: November 12, 2014.
Tracey L. Thompson,
Acting Deputy Director, Office of Sustainable Fisheries, National Marine Fisheries Service.

[FR Doc. 2014-27120 Filed 11-14-14; 8:45 am]

BILLING CODE 3510-22-P